DEPARTMENT OF ENERGY

Federal Energy Regulatory Commission

[ Project No. 2105-095]

Pacific Gas & Electric Company; Notice of Availability of Environmental Assessment

July 21, 2005.

In accordance with the National Environmental Policy Act of 1969 and the Federal Energy Regulatory Commission's (Commission) regulations, 18 CFR Part 380 (Order No. 486, 52 FR 47897), the Office of Energy Projects' staff has prepared an Environmental Assessment (EA) for an application for a non-capacity related amendment of the Lake Almanor Development of the Upper North Fork Feather River Project. The Upper North Fork Feather River Project, FERC No. 2105, is located on the Butt Creek and North Fork Feather River in Plumas County, California.

The EA contains the staff's analysis of the potential environmental impacts of the proposal and concludes that approval of the proposal would not constitute a major federal action significantly affecting the quality of the human environment.

A copy of the EA is attached to a July 20, 2005, Commission order titled “Order Approving Application for Amendment of License and Revised Exhibit K,” which is available for review and reproduction at the Commission's Public Reference Room, located at 888 First Street, NE., Room 2A, Washington, DC 20426. The EA may also be viewed on the Commission's website at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

For further information, contact Rebecca Martin at (202) 502-6012.

Magalie R. Salas,
Secretary.

[FR Doc. E5-4032 Filed 7-28-05; 8:45 am]

BILLING CODE 6717-01-P